AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration. This meeting will occur via telephone as a conference call.

DATES: The meeting date is Tuesday, February 5, 2019, 10:00 a.m. to 12:00 noon.

ADDRESSES: The meeting location is USADF, 1400 I St. NW, Suite 1000, Washington, DC 20005.

FOR FURTHER INFORMATION CONTACT: June Brown, (202) 577-5713.

Authority: Public Law 96-533 (22 U.S.C. 290h).

Dated: January 25, 2019.
June B. Brown,
General Counsel.

[FR Doc. 2019-00301 Filed 1-29-19; 8:45 am]

BILLING CODE 6117-01-P